OFFICE OF PERSONNEL MANAGEMENT

Proposed Collection; Comment Request for Revision of SF-15

AGENCY: Office of Personnel Management.

ACTION: Notice.

SUMMARY: In accordance with the Paperwork Reduction Act of 1995 (Public Law 104-13, May 22, 1995), this notice announces that the Office of Personnel Management (OPM) intends to submit to the Office of Management and Budget (OMB) a request for revision of an expiring information collection form, Standard Form 15 (SF-15). SF 15, Application for 10-Point Veteran Preference, is used by OPM examining offices and agency appointing officials to adjudicate individuals' claims for veterans' preference in accordance with the Veterans' Preference Act of 1944.

According to the General Services Administration, 45,000 forms were used last year. Each form requires approximately 10 minutes to complete. The annual estimated burden is 7,500 hours.

Comments are particularly invited on: whether this information is necessary for OPM to properly perform its functions; whether the information will have practical utility; whether OPM's estimate of the public burden of this collection of information is accurate and based on valid assumptions and methodology; and ways in which OPM can minimize the burden of the collection of information on those who are to respond, through the use of appropriate technological collection techniques or other forms of information technology.

For copies of this proposal, contact Mary Beth Smith-Toomey at mbtoomey@opm.gov or fax to (202) 418-3251. Please be sure to include a mailing address with your request.

DATES: Comments on this proposal should be received within 60 calendar days from the date of this publication.

ADDRESSES: Send or deliver written comments to: Ellen Tunstall, Assistant Director for Employment Policy, U.S. Office of Personnel Management, 1900 E Street, NW., Room 6500, Washington, DC 20415.

Office of Personnel Management.
Kay Coles James,
Director.

[FR Doc. 02-18117 Filed 7-18-02; 8:45 am]

BILLING CODE 6325-38-P